FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments received are subject to public disclosure. In general, comments received will be made available without change and will not be modified to remove personal or business information including confidential, contact, or other identifying information. Comments should not include any information such as confidential information that would not be appropriate for public disclosure.

Comments regarding each of these applications must be received at the Reserve Bank indicated or the offices of the Board of Governors, Benjami W. McDonough, Deputy Secretary of the Board, 20th Street and Constitution Avenue NW, Washington, DC 20551-0001, not later than December 3, 2025.

A. Federal Reserve Bank of Kansas City (Jeffrey Imgarten, Assistant Vice President) 1 Memorial Drive, Kansas City, Missouri 64198-0001. Comments can also be sent electronically to KCApplicationComments@kc.frb.org:

1. David J. Mann Family Trust, David J. Mann, as trustee; Barrett David Mann Gift Trust, Shane A. Mann, as trustee; and Carson Gale Mann Gift Trust, Shane A. Mann, as trustee, all of Quinter, Kansas; Reid Richard Crouse Gift Trust, Tara J. Mann Crouse, as trustee, both of Colby, Kansas; Quincy Caroline Mann Gift Trust, Tracey R. Mann, as trustee; David Austin Mann Gift Trust, Tracey R. Mann, as trustee; Whitney Beata Mann Gift Trust, Tracey R. Mann, as trustee; and Elizabeth Lorraine Mann Gift Trust, Tracey R. Mann, as trustee, all of Salina, Kansas, to join the Floyd Family Group, a group acting in concert, to acquire voting shares of Legacy Financial, Inc., Johnson, Kansas, and thereby indirectly acquire voting shares of Dream First Bank, National Association, Syracuse, Kansas.

Board of Governors of the Federal Reserve System.
Erin Cayce,
Assistant Secretary of the Board.

[FR Doc. 2025-20195 Filed 11-17-25; 8:45 am]

BILLING CODE P